DEPARTMENT OF TRANSPORTATION

Surface Transportation Board

[Docket No. AB 314 (Sub-No. 7X)]

Chicago Central & Pacific Railroad Company—Abandonment Exemption—in Pottawattamie County, Iowa, and Douglas County, NE

AGENCY: Surface Transportation Board.

ACTION: Notice; correction.

SUMMARY: The Surface Transportation Board published a document in the Federal Register on February 11, 2015, which instituted an exemption proceeding pursuant to 49 U.S.C. 10502(b) for Chicago, Central & Pacific Railroad Company. The published document contained an incorrect milepost.

FOR FURTHER INFORMATION CONTACT: Jonathon Binet, (202) 245-0368. Federal Information Relay Service (FIRS) for the hearing impaired: (800) 877-8339.

Correction

In the Federal Register of February 11, 2015, at 80 FR 7682, correct “milepost 511.7” to read “milepost 511.17.” All other information remains unchanged.

Decided: May 5, 2015.
By the Board, Rachel D. Campbell, Director, Office of Proceedings.
Brendetta S. Jones,
Clearance Clerk.

[FR Doc. 2015-11114 Filed 5-7-15; 8:45 am]

BILLING CODE 4915-01-P